DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with May anniversary dates. In accordance with the Department's regulations, we are initiating those administrative reviews.

DATES: Effective Date: June 27, 2014.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with May anniversary dates.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303.¹ Such submissions are subject to verification in accordance with section 782(i) of the Tariff Act of 1930, as amended (“Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review. Rebuttal comments will be due five days after submission of initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than May 31, 2015.

| Period to be reviewed
Antidumping Duty Proceedings
Belgium: Stainless Steel Plate in Coils, A-423-808 | 5/1/13-4/30/14
Aperam Stainless Belgium N.V. (“ASB”)
Canada: Citric Acid and Certain Citrate Salts, A-122-853 | 5/1/13-4/30/14
Jungbunzlauer Canada Inc.
India: Silcomanganese, A-533-823 | 5/1/13-4/30/14
Nava Bharat Ventures Limited
Republic of Korea: Polyester Staple Fiber, A-580-839 | 5/1/13-4/30/14
Huvis Corporation
Woongjin Chemical Company, Ltd.
Taiwan: Certain Stilbenic Optical Brightening Agents, A-583-848 | 5/1/13-4/30/14
The Fong Min International Co., Ltd.
Taiwan: Polyester Staple Fiber, A-583-833 | 5/1/13-4/30/14
Far Eastern New Century Corporation
Nan Ya Plastics Corporation
The People's Republic of China: Aluminum Extrusions, A-570-967 | 5/1/13-4/30/14
Acro Import and Export Co.
Activa International Inc. Allied Maker Limited Alnan Aluminium Co., Ltd. Aluminicaste Fundicion de Mexico Changshu Changshen Aluminum Products Co., Ltd. Changzhou Changzheng Evaporator Co., Ltd. Changzhou Tenglong Auto Parts Co., Ltd. China Zhongwang Holdings, Ltd. Chiping One Stop Industrial & Trade Co., Ltd. Classic & Contemporary Inc. Clear Sky Inc. Cosco (J.M.) Aluminum Co., Ltd. Dongguan Aoda Aluminum Co., Ltd. Dongguan Golden Tiger Dongguan Golden Tiger Hardware Industrial Co., Ltd.
Dragonluxe Limited Dynabright International Group (HK) Limited Dynamic Technologies China First Union Property Limited Foreign Trade Co. of Suzhou New & Hi-Tech Industrial Development Zone Foshan City Nanhai Hongjia Aluminum Alloy Co., Ltd. Foshan Guancheng Aluminum Co., Ltd. Foshan Jinlan Aluminum Co. Ltd. Foshan JMA Aluminum Company Limited Foshan Shanshui Fenglu Aluminum Co., Ltd. Foshan Shunde Aoneng Electrical Appliances Co., Ltd. Foshan Yong Li Jian Alu. Ltd. Fujian Sanchuan Aluminum Co., Ltd.
Global PMX Dongguan Co., Ltd. Global Point Technology (Far East) Limited Gold Mountain International Development, Ltd. Golden Dragon Precise Copper Tube Group, Inc. Gran Cabrio Capital Pte. Ltd. Gree Electric Appliances GT88 Capital Pte. Ltd. Guang Ya Aluminum Industries (HK) Ltd. Guang Ya Aluminum Industries Co., Ltd Guangdong Hao Mei Aluminum Co., Ltd. Guangdong Jianmei Aluminum Profile Company Limited Guangdong JMA Aluminum Profile Factory (Group) Co., Ltd. Guangdong Nanhai Foodstuffs Imp. & Exp. Co., Ltd. Guangdong Weiye Aluminum Factory Co., Ltd.
Guangdong Whirlpool Electrical Appliances Co., Ltd. Guangdong Xingfa Aluminum Co., Ltd. Guangdong Xin Wei Aluminum Products Co., Ltd. Guangdong Yonglijian Aluminum Co., Ltd Guangdong Zhongya Aluminum Company Limited Guangzhou Jangho Curtain Wall System Engineering Co., Ltd. Guangzhou Mingcan Die-Casting Hardware Products Co., Ltd. Hangzhou Xingyi Metal Products Co., Ltd. Hanwood Enterprises Limited Hanyung Alcobis Co., Ltd. Hao Mei Aluminum Co., Ltd. Hao Mei Aluminum International Co., Ltd. Henan New Kelong Electrical Appliances Co., Ltd. Hong Kong Gree Electric Appliances Sales Limited Honsense Development Company Hui Mei Gao Aluminum Foshan Co., Ltd.
Idex Dinglee Technology (Tianjin Co., Ltd.) Idex Health Innovative Aluminum (Hong Kong) Limited iSource Asia
Jangho Curtain Wall Hong Kong Ltd. Jiangmen Qunxing Hardware Diecasting Co., Ltd. Jiangsu Changfa Refrigeration Co., Ltd. Jiangsu Susan Group (HK) Co., Ltd. Jiangyin Trust International Inc Jiangyin Xinhong Doors and Windows Co., Ltd. Jiaxing Jackson Travel Products Co., Ltd. Jiaxing Taixin Metal Products Co., Ltd. Jiuyan Co., Ltd. JMA (HK) Company Limited
Justhere Co., Ltd. Kam Kiu Aluminum Products Sdn Bhd Kanal Precision Aluminum Product Co., Ltd. Karlton Aluminum Company Ltd. Kong Ah International Company Limited Kromet International Inc. Kunshan Giant Light Metal Technology Co., Ltd. Liaoning Zhongwang Group Co., Ltd. Liaoyang Zhongwang Aluminum Profiled Co. Ltd.
Longkou Donghai Trade Co., Ltd. Metaltek Group Co., Ltd. Metaltek Metal Industry Co., Ltd. Midea Air Conditioning Equipment Co., Ltd. Midea International Trading Co., Ltd./Midea International Trading Co., Ltd. Miland Luck Limited
Nanhai Textiles Import & Export Co., Ltd. New Asia Aluminum & Stainless Steel Product Co., Ltd. Nidec Sankyo Singapore Pte. Ltd. Nidec Sankyo (Zhejiang) Corporation Ningbo Coaster International Co., Ltd. Ningbo Hi Tech Reliable Manufacturing Company Ningbo Minmetals & Machinery Imp. & Exp. Corp. Ningbo Lakeside Machinery Factory Ningbo Yili Import and Export Co., Ltd. North China Aluminum Co., Ltd.
Northern States Metals PanAsia Aluminum (China) Limited Pengcheng Aluminum Enterprise Inc. Permasteelisa South China Factory Permasteelisa Hong Kong Ltd. Pingguo Aluminum Company Limited Pingguo Asia Aluminum Co., Ltd. Popular Plastics Company Limited Press Metal International Ltd Samuel, Son & Co., Ltd. Sanchuan Aluminum Co., Ltd.
Shangdong Huasheng Pesticide Machinery Co. Shangdong Nanshan Aluminum Co., Ltd. Shanghai Automobile Air Conditioner Accessories Ltd. Shanghai Canghai Aluminum Tube Packaging Co., Ltd Shanghai Dongsheng Metal Shanghai Shen Hang Imp & Exp Co., Ltd. Shanghai Tongtai Precise Aluminum Alloy Manufacturing Co., Ltd. Shenyang Yuanda Aluminum Industry Engineering Co., Ltd. Shenzhen Hudson Technology Development Co., Ltd. Shenzhen Jiuyuan Co., Ltd. Sihui Shi Guo Yao Aluminum Co., Ltd. Sincere Profit Limited Skyline Exhibit Systems (Shanghai) Co., Ltd. Suzhou JRP Import & Export Co., Ltd. Suzhou New Hongji Precesion Part Co Tai-Ao Aluminum (Taishan) Co. Ltd. Taishan City Kam Kiu Aluminum Extrusion Co., Ltd.
Taizhou Lifeng Manufacturing Corporation tenKsolar (Shanghai) Co., Ltd. tenKsolar, Inc. Taogoasei America Inc./Toagoasei America Inc. Tianjin Ganglv Nonferrous Metal Materials Co., Ltd. Tianjin Jinmao Import & Export Corp., Ltd. Tianjin Ruxin Electric Heat Transmission Technology Co., Ltd. Tianjin Xiandai Plastic & Aluminum Products Co., Ltd. Tiazhou Lifeng Manufacturing Corporation/Taizhou Lifeng Manufacturing Corporation, Ltd. Top-Wok Metal Co., Ltd. Traffic Brick Network, LLC
Union Industry (Asia) Co., Ltd. USA Worldwide Door Components (Pinghu) Co., Ltd. Wenzhou Shengbo Decoration & Hardware Whirlpool (Guangdong) WTI Building Products, Ltd. Xin Wei Aluminum Company Limited Xinya Aluminum & Stainless Steel Product Co., Ltd.
Zahoqing China Square Industry Limited/Zhaoqing China Square Industry Limited Zhaoqing Asia Aluminum Factory Company Ltd. Zhaoqing China Square Industrial Ltd. Zhaoqing New Zhongya Aluminum Co., Ltd. Zhejiang Anji Xinxiang Aluminum Co., Ltd. Zhejiang Yongkang Listar Aluminum Industry Co., Ltd. Zhejiang Zhengte Group Co., Ltd. Zhenjiang Xinlong Group Co., Ltd. Zhongshan Gold Mountain Aluminum Factory Ltd. Zhongya Shaped Aluminum (HK) Holding Limited Zhuhai Runxingtai Electrical Equipment Co., Ltd.
The People's Republic of China: Citric Acid and Certain Citrate Salts, A-570-937 | 5/1/13-4/30/14
Laiwu Taihe Biochemistry Co., Ltd.
RZBC Co., Ltd., RZBC Imp. & Exp. Co., Ltd., RZBC (Juxian) Co., Ltd.
Yixing Union Biochemical Co., Ltd.
The People's Republic of China: Pure Magnesium, A-570-832 | 5/1/13-4/30/14
Tianjin Magnesium International Co., Ltd. (“TMI”)
Tianjin Magnesium Metal Co., Ltd. (“TMM”)
Turkey: Circular Welded Carbon Steel Pipes and Tubes, A-489-501 | 5/1/13-4/30/14
Borusan Group
Borusan Istikbal Ticaret T.A.S.
Borusan Mannesmann Boru Sanayi ve Ticaret A.S.
ERBOSAN Erciyas Boru Sanayi ve Ticaret A.S.
Tosyali Dis Ticaret A.S.
Toscelik Profil ve Sac Endustrisi A.S.
Turkey: Light-Walled Rectangular Pipe and Tube, A-489-815 | 5/1/13-4/30/14
CINAR Boru Profil Sanayi ve Ticaret A.S.
United Arab Emirates: Certain Steel Nails, A-520-804 | 5/1/13-4/30/14
Dubai Wire FZE
Precision Fasteners LLC
Countervailing Duty Proceedings
The People's Republic of China: Aluminum Extrusions, C-570-968 | 1/1/13-12/31/13
Acro Import and Export Co. Activa International Inc. Allied Maker Limited Alnan Aluminium Co., Ltd. Aluminicaste Fundicion de Mexico
Bracalente Metal Products (Suzhou) Co. Ltd. Changshu Changshen Aluminum Products Co., Ltd. Changzhou Changzheng Evaporator Co., Ltd. Changzhou Tenglong Auto Parts Co., Ltd. China Zhongwang Holdings, Ltd. Chiping One Stop Industrial & Trade Co., Ltd. Classic & Contemporary Inc. Clear Sky Inc. Cosco (J.M.) Aluminum Co., Ltd.
Danfoss Micro Channel Heat Exchanger (Jia Xing) Co. Ltd. Dongguan Aoda Aluminum Co., Ltd. Dongguan Golden Tiger Hardware Industrial Co., Ltd. Dragonluxe Limited Dynabright International Group (HK) Limited Dynamic Technologies China Ever Extend Ent. Ltd.
Fenghua Metal Product Factory First Union Property Limited Foreign Trade Co. of Suzhou New & Hi-Tech Industrial Development Zone Foshan City Nanhai Hongjia Aluminum Alloy Co., Ltd. Foshan Guancheng Aluminum Co., Ltd. Foshan Jinlan Aluminum Co. Ltd. Foshan JMA Aluminum Company Limited Foshan Shanshui Fenglu Aluminum Co., Ltd. Foshan Shunde Aoneng Electrical Appliances Co., Ltd. Foshan Yong Li Jian Alu. Ltd. Fujian Sanchuan Aluminum Co., Ltd.
Global PMX Dongguan Co., Ltd. Global Point Technology (Far East) Limited Gold Mountain International Development, Ltd. Golden Dragon Precise Copper Tube Group, Inc. Gran Cabrio Capital Pte. Ltd. Gree Electric Appliances GT88 Capital Pte. Ltd. Guang Ya Aluminum Industries (HK) Ltd. Guang Ya Aluminum Industries Co., Ltd Guangdong Hao Mei Aluminum Co., Ltd. Guangdong Jianmei Aluminum Profile Company Limited
Guangdone JMA Aluminum Profile Factory (Group) Co., Ltd. Guangdong Nanhai Foodstuffs Imp. & Exp. Co., Ltd. Guangdong Weiye Aluminum Factory Co., Ltd. Guangdong Whirlpool Electrical Appliances Co., Ltd. Guangdong Xingfa Aluminum Co., Ltd. Guangdong Xin Wei Aluminum Products Co., Ltd. Guangdong Yonglijian Aluminum Co., Ltd Guangdong Zhongya Aluminum Company Limited Guangzhou Jangho Curtain Wall System Engineering Co., Ltd. Guangzhou Mingcan Die-Casting Hardware Products Co., Ltd.
Hangzhou Xingyi Metal Products Co., Ltd. Hanwood Enterprises Limited Hanyung Alcobis Co., Ltd. Hanyung Metal (Suzhou) Co., Ltd. Hao Mei Aluminum Co., Ltd. Hao Mei Aluminum International Co., Ltd. Henan New Kelong Electrical Appliances Co., Ltd. Hong Kong Gree Electric Appliances Sales Limited Honsense Development Company Hui Mei Gao Aluminum Foshan Co., Ltd.
Idex Dinglee Technology (Tianjin Co., Ltd.) Idex Health IDEX Technology Suzhou Co., Ltd. Innovative Aluminum (Hong Kong) Limited iSource Asia Jangho Curtain Wall Hong Kong Ltd. Jiangmen Qunxing Hardware Diecasting Co., Ltd. Jiangsu Changfa Refrigeration Co., Ltd. Jiangsu Susan Group (HK) Co., Ltd. Jiangyin Trust International Inc Jiangyin Xinhong Doors and Windows Co., Ltd.
Jiaxing Jackson Travel Products Co., Ltd. Jiaxing Taixin Metal Products Co., Ltd. Jiuyan Co., Ltd. JMA (HK) Company Limited Justhere Co., Ltd. Kam Kiu Aluminum Products Sdn Bhd Kanal Precision Aluminum Product Co., Ltd. Karlton Aluminum Company Ltd. Kong Ah International Company Limited Kromet International Inc. Kunshan Giant Light Metal Technology Co., Ltd.
Liaoning Zhongwang Group Co., Ltd. Liaoyang Zhongwang Aluminum Profiled Co. Ltd. Longkou Donghai Trade Co., Ltd. Massoud & Bros. Co., Ltd. Metaltek Group Co., Ltd. Metaltek Metal Industry Co., Ltd. Midea Air Conditioning Equipment Co., Ltd. Midea International Trading Co., Ltd./Midea International Trading Co., Ltd. Miland Luck Limited Nanhai Textiles Import & Export Co., Ltd.
New Asia Aluminum & Stainless Steel Product Co., Ltd. Nidec Sankyo Singapore Pte. Ltd. Nidec Sankyo (Zhejiang) Corporation Ningbo Coaster International Co., Ltd. Ningbo Hi Tech Reliable Manufacturing Company Ningbo Lakeside Machiery Factory Ningbo Minmetals & Machinery Imp. & Exp. Corp. Ningbo Yili Import and Export Co., Ltd. North China Aluminum Co., Ltd. North Fenghua Aluminum Limited Northern States Metals
PanAsia Aluminum (China) Limited Pengcheng Aluminum Enterprise Inc. Permasteelisa Hong Kong Ltd. Permasteelisa South China Factory Pingguo Aluminum Company Limited Pingguo Asia Aluminum Co., Ltd. Popular Plastics Company Limited Press Metal International Ltd
Samuel, Son & Co., Ltd. Sanchuan Aluminum Co., Ltd. Sapa Profiles (Shanghai) Co., Ltd. Shangdong Huasheng Pesticide Machinery Co. Shangdong Nanshan Aluminum Co., Ltd. Shanghai Automobile Air Conditioner Accessories Ltd. Shanghai Canghai Aluminum Tube Packaging Co., Ltd Shanghai Dongsheng Metal Shanghai Shen Hang Imp & Exp Co., Ltd. Shanghai Tongtai Precise Aluminum Alloy Manufacturing Co., Ltd.
Shenyang Yuanda Aluminum Industry Engineering Co., Ltd. Shenzhen Hudson Technology Development Co., Ltd. Shenzhen Jiuyuan Co., Ltd. Sihui Shi Guo Yao Aluminum Co., Ltd. Sincere Profit Limited Skyline Exhibit Systems (Shanghai) Co., Ltd. Suzhou JRP Import & Export Co., Ltd. Suzhou New Hongji Precesion Part Co
Tai-Ao Aluminum (Taishan) Co. Ltd. Taishan City Kam Kiu Aluminum Extrusion Co., Ltd. Taizhou Lifeng Manufacturing Corporation Taizhou United Imp. & Exp. Co Ltd. tenKsolar (Shanghai) Co., Ltd. tenKsolar, Inc. Taogoasei America Inc./Toagoasei America Inc. Tianjin Ganglv Nonferrous Metal Materials Co., Ltd. Tianjin Jinmao Import & Export Corp., Ltd. Tianjin Ruxin Electric Heat Transmission Technology Co., Ltd. Tianjin Xiandai Plastic & Aluminum Products Co., Ltd.
Tiazhou Lifeng Manufacturing Corporation/Taizhou Lifeng Manufacturing Corporation, Ltd. Top-Wok Metal Co., Ltd. Traffic Brick Network, LLC Union Industry (Asia) Co., Ltd. USA Worldwide Door Components (Pinghu) Co., Ltd. Wenzhou Shengbo Decoration & Hardware Whirlpool (Guangdong) Whirlpool Microwave Products Development Ltd.
WTI Building Products, Ltd. Xin Wei Aluminum Company Limited Xinya Aluminum & Stainless Steel Product Co., Ltd. Zahoqing China Square Industry Limited/Zhaoqing China Square Industry Limited Zhaoqing Asia Aluminum Factory Company Ltd. Zhaoqing China Square Industrial Ltd. Zhaoqing New Zhongya Aluminum Co., Ltd.
Zhejiang Anji Xinxiang Aluminum Co., Ltd. Zhejiang Dongfeng Refrigeration Components Co., Ltd. Zhejiang Yongkang Listar Aluminum Industry Co., Ltd. Zhejiang Zhengte Group Co., Ltd. Zhenjiang Xinlong Group Co., Ltd. Zhongshan Daya Hardware Co., Ltd. Zhongshan Gold Mountain Aluminum Factory Ltd. Zhongya Shaped Aluminum (HK) Holding Limited Zhuhai Runxingtai Electrical Equipment Co., Ltd.
The People's Republic of China: Citric Acid and Certain Citrate Salts, C-570-938 | 1/1/13-12/31/13
Changsha Huir Biological-Tech Co., Ltd. Huangshi Xinghua Biochemical Co., Ltd. Hunan Dongting Pharmaceutical Co., Ltd. Jiali Bio Group (Qingdao) Co., Ltd.
Juxian Hongde Citric Acid Co., Ltd. Laiwu Taihe Biochemical Co., Ltd. Lianyungang Debang Fine Chemical Co., Ltd. Lianyungang Dongtai Food Ingredients Co., Ltd. Lianyungang Hengsheng Fine Chemical Co., Ltd.
Lianyungang Yunbo Chemical Co., Ltd. Lianyungang Zhengrong Food Additive Factory Nantong Feiyu Fine Chemical Co., Ltd. Ningxiang Xinyang Chemical Co., Ltd. Penglai Marine Bio-Tech Co., Ltd. Qingdao Fuso Refining & Processing Co., Ltd.
Reephos Chemical Co., Ltd. Rugao Jiangbei Additive Co., Ltd. RZBC Group Shareholding Co., Ltd. (RZBC Group), RZBC Co., Ltd., RZBC (Juxian) Co., Ltd., and RZBC Imp. & Exp. Co., Ltd. Shandong Hongshide Chemical Co., Ltd. Shandong TTCA Biochemistry Co., Ltd. Shihezi City Changyum Biochemical Co., Ltd.
Weifang Ensign Industry Co., Ltd. Wuhan Shuangfeng Citric Acid Co., Ltd. Yixing Union Biochemical Co., Ltd. Yixing Zhenfen Medical Chemical Co., Ltd. Yunnan No. 2 Fuel Factory

Suspension Agreements

None.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: the definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.⁴ Parties are hereby reminded that revised certification requirements are in effect for company/government officials as well as their representatives. Ongoing segments of any antidumping duty or countervailing duty proceedings initiated on or after March 14, 2011 should use the formats for the revised certifications provided at the end of the Interim Final Rule.⁵ All segments of any antidumping duty or countervailing duty proceedings initiated on or after August 16, 2013, should use the formats for the revised certifications provided at the end of the Final Rule.⁶ The Department intends to reject factual submissions in any proceeding segments if the submitting party does not comply with applicable revised certification requirements.

⁴ See section 782(b) of the Act.

⁵ See Certification of Factual Information to Import Administration During Antidumping and Countervailing Duty Proceedings: Interim Final Rule, 76 FR 7491 (February 10, 2011) (“Interim Final Rule”), amending 19 CFR 351.303(g)(1) and (2); Certification of Factual Information to Import Administration during Antidumping and Countervailing Duty Proceedings: Supplemental Interim Final Rule, 76 FR 54697 (September 2, 2011).

⁶ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: June 20, 2014.
Christian Marsh,
Deputy Assistant Secretary for Antidumping and Countervailing Duty Operations.

[FR Doc. 2014-15165 Filed 6-26-14; 8:45 am]

BILLING CODE 3510-DS-P